ENVIRONMENTAL PROTECTION AGENCY

[FRL-7574-4]

National Dialogue on EPA's Draft Report on the Environment, 2003

AGENCY: U.S. Environmental Protection Agency (EPA).

ACTION: Notice of public meeting.

SUMMARY: The Office of Environmental Information, the Office of Research and Development and EPA's Regional Offices are conducting national dialogue sessions with a broad spectrum of stakeholders to solicit feedback on the Draft Report on the Environment issued June 23, 2003. EPA will conduct five sessions and will invite representatives from Federal, State, and local governments, tribes, academia, non-governmental organizations, and business and industry. Interested members of the general public may attend the meetings and will have an opportunity to provide comment at an appointed time during the session. Because space is limited, those planning to attend must RSVP to the individual listed in the FOR FURTHER INFORMATION CONTACT no later than one week before the meeting. The information contact will also provide the specific meeting locations in the cities listed below as well as directions.

DATES: The dates for the dialogue sessions are:

1. November 6, 2003 9 a.m. to 4:30 PM, Chicago, IL

2. November 13, 2003, 9 a.m. to 4:30 PM, Atlanta, GA

3. November 18, 2003, 9 a.m. to 4:30 PM, San Francisco, CA

4. November 20, 2003, 9 a.m. to 4:30 PM, Seattle, WA

5. December 12, 2003, 9 a.m. to 4:30 PM, Dallas, TX

FOR FURTHER INFORMATION CONTACT: Dawn Banks-Waller, Office of Environmental Information, Office of Information Analysis and Access, Environmental Analysis Division, (2842T), U.S. EPA, 1200 Pennsylvania Ave NW., Washington, DC 20460. Telephone (202) 566-0625, fax (202) 566-1066 or e-mail banks-waller.dawn@epa.gov.

SUPPLEMENTARY INFORMATION: On June 23, 2003, EPA released the Draft Report on the Environment (RoE) and its accompanying Technical Document. The report presents EPA's first-ever national picture of the U.S. environment. The report describes what EPA knows—and doesn't know—about the current state of the environment at the national level, and how the environment is changing. The report highlights the progress our nation has made in protecting its air, water, and land resources and describes the measures that can be used to track the status of the environment and human health.

EPA has issued the report as a draft to stimulate dialogue and invite input into developing and improving environmental indicators in the future. The national dialogue sessions are a first step in soliciting feedback on the report and will focus on:

• Assessing the quality, structure, relevance, appropriateness of, and needed improvements to the report,

• Identifying additional or new questions/indicators, changes in indicators, gaps, indicator improvements, etc., and

• Assessing the use of the report for planning and decision-making. Feedback obtained from these sessions will be used to shape the next and future editions of the report.

To view, download, or order hardcopies of the RoE and the Technical Document or to provide comments on the documents, please visit the EPA Environmental Indicators Initiative Web site at http://www.epa.gov/indicators/roe/.

Dated: October 3, 2003.
Elaine G. Stanley,
Director, Office of Information Analysis and Access.

[FR Doc. 03-26052 Filed 10-14-03; 8:45 am]

BILLING CODE 6560-50-P